DEPARTMENT OF ENERGY

Federal Energy Regulatory Commission

Notice of Schedule for Environmental Review of the Mountain Valley Pipeine Project and the Equitrans Expansion Project

| Docket No.
Mountain Valley Pipeline LLC | CP16-10-000
Equitrans LP | CP16-13-000

On October 23, 2015, Mountain Valley Pipeline LLC (Mountain Valley) filed its application with the Federal Energy Regulatory Commission (FERC or Commission) in Docket No. CP16-10-000, requesting a Certificate of Public Convenience and Necessity pursuant to Section 7(c) of the Natural Gas Act to construct, operate, and maintain certain natural gas pipeline facilities. Equitrans LP (Equitrans) filed a companion application on October 27, 2015 in Docket No. CP16-13-000. The proposed Mountain Valley Pipeline Project, in West Virginia and Virginia, would transport about 2 billion cubic feet per day (Bcf/d) of natural gas from production areas in the Appalachian Basin to markets on the East Coast. The proposed Equitrans Expansion Project, in Pennsylvania and West Virginia, would transport about 0.4 Bcf/d of natural gas and interconnect with the Mountain Valley Pipeline. Because these are interrelated projects, the FERC staff deemed it was appropriate to analyze them in a single environmental impact statement (EIS).

On November 5, 2015, the FERC issued its Notice of Application for the projects. Among other things, that notice alerted other agencies issuing federal authorizations of the requirement to complete all necessary reviews and to reach a final decision on the request for a federal authorization within 90 days of the date of issuance of the Commission staff's final EIS for the projects. This instant notice identifies the FERC staff's planned schedule for completion of the final EIS for the projects, which is based on an issuance of the draft EIS in September 2016.

Schedule for Environmental Review

Issuance of Notice of Availability of the final EIS, March 10, 2017

90-day Federal Authorization Decision Deadline, June 8, 2017

If a schedule change becomes necessary for the final EIS, an additional notice will be provided so that the relevant agencies are kept informed of the projects' progress.

Project Description

The Mountain Valley Pipeline Project would consist of about 301 miles of new 42-inch-diameter pipeline, beginning at the Mobley Interconnect and receipt meter station in Wetzel County, West Virginia, and terminating at the Transco Interconnect and delivery meter station at the existing Transcontinental Gas Pipe Line Company Compressor Station 165 in Pittsylvania County, Virginia. In addition, Mountain Valley intends to construct and operate three new compressor stations and other aboveground facilities.

The Equitrans Expansion Project would consist of a total of about 8 miles of various diameter pipelines in six segments. These segments include the parallel 12-inch-diameter H-158 pipeline and 6-inch-diameter M-80 pipeline extending about 0.2-mile each in Greene County, Pennsylvania; the 24-inch-diameter H-305 pipeline that would extend about 540 feet in Greene County; the 3-mile-long new 30-inch-diameter H-316 pipeline in Greene County; the 4.2-mile-long new 20-inch-diameter H-318 pipeline in Allegheny and Washington Counties, Pennsylvania; and the new H-319 pipeline that would extend about 200 feet in Wetzel County, West Virginia. Equitrans also proposes to abandon its existing Pratt Compressor Station and replace it with the new Redhook Compressor Station in Greene County, Pennsylvania; and to construct and operate taps in Greene County and Washington County, Pennsylvania, and an interconnect and two taps in Wetzel County, West Virginia,

Background

On October 31, 2014 and April 9, 2015, the Commission staff granted Mountain Valley's and Equitrans' requests to use the FERC's pre-filing environmental review process and assigned the Mountain Valley Pipeline Project temporary Docket No. PF15-3-000 and the Equitrans Expansion Project temporary Docket No. PF15-22-000. The FERC issued a Notice of Intent to Prepare and Environmental Impact Statement for the Planned Mountain Valley Pipeline Project, Request for Comments on Environmental Issues, and Notice of Public Scoping Meetings (NOI) on April 17, 2015. An NOI for the Equitrans Expansion Project was issued on August 11, 2015, with a scoping period for that project that ended on September 14, 2015.

The NOIs were issued during the pre-filing review of the projects, and were sent to our environmental mailing list that included federal, state, and local government agencies; elected officials; affected landowners; regional environmental groups and non-governmental organizations; Native Americans and Indian tribes; local libraries and newspapers; and other interested parties. The Mountain Valley Pipeline Project NOI announced the date, time, and location of six public meetings sponsored by the FERC in the project area, and a scoping period that ran to June 16, 2015 to take comments on the project. Some of the major issues raised during scoping included potential impacts on karst terrain and caves; impacts on groundwater and springs, drinking water supplies, and surface waterbodies; impacts on forest; impacts on property values and the use of eminent domain; impacts on tourism; impacts on public recreational areas such as the Jefferson National Forest, Appalachian National Scenic Trail, and the Blue Ridge Parkway; impacts on historic districts; and pipeline safety.

The United States (U.S.) Department of Agriculture Forest Service, Jefferson National Forest; U.S. Army Corps of Engineers, Huntington and Norfolk Districts; U.S. Department of the Interior, Bureau of Land Management; U.S. Environmental Protection Agency, Region 3; Pipeline and Hazardous Materials Safety Administration within the U.S. Department of Transportation; West Virginia Department of Environmental Protection; and West Virginia Division of Natural Resources are cooperating agencies in the preparation of the EIS.

Additional Information

In order to receive notification of the issuance of the EIS and to keep track of all formal issuances and submittals in specific dockets, the Commission offers a free service called eSubscription (http://www.ferc.gov/docs-filing/esubscription.asp). Additional data about the projects can be obtained electronically through the Commission's Internet Web site (www.ferc.gov). Under “Dockets & Filings,” use the “eLibrary” link, select “General Search” from the menu, enter the docket numbers excluding the last three digits (i.e., CP16-10 or CP16-13), and the search dates. Questions about the projects can be directed to the Commission's Office of External Affairs at (866) 208-FERC.

Dated: June 28, 2016.
Kimberly D. Bose,
Secretary.

[FR Doc. 2016-15796 Filed 7-1-16; 8:45 am]

BILLING CODE 6717-01-P